DEPARTMENT OF COMMERCE

National Oceanic and Atmospheric Administration

[I.D.052400A]

Marine Mammals; File No. 555-1565

AGENCY: National Marine Fisheries Service (NMFS), National Oceanic and Atmospheric Administration (NOAA), Commerce.

ACTION: Receipt of application.

SUMMARY: Notice is hereby given that James T. Harvey (Principal Investigator), Moss Landing Marine Laboratories, P.O. Box 450, Moss Landing, CA 95039, has applied in due form for a permit to take Pacific harbor seals (Phoca vitulina richardsi) for purposes of scientific research.

DATES: Written or telefaxed comments must be received on or before July 6, 2000.

ADDRESSES: The application and related documents are available for review upon written request or by appointment in the following office(s):

Permits and Documentation Division, Office of Protected Resources, NMFS, 1315 East-West Highway, Room 13130, Silver Spring, MD 20910 (301/713-2289);

Southwest Region, NMFS, 501 West Ocean Blvd., Suite 4200, Long Beach, CA 90802 (562/980-4001); and

Northwest Region, NMFS, 7600 Sand Point Way NE, BIN C15700, Seattle, WA 98115 (206/526-6150).

FOR FURTHER INFORMATION CONTACT: Simona Roberts or Ruth Johnson, 301/713-2289.

SUPPLEMENTARY INFORMATION: The subject permit is requested under the authority of the Marine Mammal Protection Act of 1972, as amended (MMPA; 16 U.S.C. 1361 et seq.), and the Regulations Governing the Taking and Importing of Marine Mammals (50 CFR part 216).

The applicant seeks authorization to capture, handle and tag 1,600 Pacific harbor seals per year of all age and sex classes near haul-out sites throughout California, Oregon and Washington. Captured seals would be subject to all or some of the following activities: blood and tissue sampling, flipper tagging, PIT tagging, branding, lavaging, and video camera attachment. Acoustic playback experiments and scat collection would also take place around the haul-out sites. In addition, the applicant seeks authorization to surgically implant radio tags in 15 captive, rehabilitated Pacific harbor seals and to conduct feeding studies on 12 captive, rehabilitated Pacific harbor seals.

In compliance with the National Environmental Policy Act of 1969 (42 U.S.C. 4321 et seq.), an initial determination has been made that the activity proposed is categorically excluded from the requirement to prepare an environmental assessment or environmental impact statement.

Written comments or requests for a public hearing on this application should be mailed to the Chief, Permits and Documentation Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: May 31, 2000.
Ann D. Terbush,
Chief, Permits and Documentation Division, Office of Protected Resources, National Marine Fisheries Service.

[FR Doc. 00-14198 Filed 6-5-00; 8:45 am]

BILLING CODE 3510-22-F